FEDERAL ACCOUNTING STANDARDS ADVISORY BOARD

Notice of Issuance of Statement of Federal Financial Accounting Standard 38, Accounting for Federal Oil and Gas Resources

AGENCY: Federal Accounting Standards Advisory Board

ACTION: Notice.

Board Action: Pursuant to 31 U.S.C. 3511(d), the Federal Advisory Committee Act (Pub. L. 92-463), as amended, and the FASAB Rules of Procedure, as amended in April, 2004, notice is hereby given that the Federal Accounting Standards Advisory Board (FASAB) has issued Statement of Federal Financial Accounting Standard 38, Accounting for Federal Oil and Gas Resources.

The standard is available on the FASAB home page http://www.fasab.gov/standards.html. Copies can be obtained by contacting FASAB at (202) 512-7350.

FOR FURTHER INFORMATION CONTACT: Wendy Payne, Executive Director, at (202) 512-7350.

Authority: Federal Advisory Committee Act, Pub. L. 92-463.

Dated: April 14, 2010.
Charles Jackson,
Federal Register Liaison Officer.

[FR Doc. 2010-8966 Filed 4-16-10; 8:45 am]

BILLING CODE 1610-02-P